DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

PRT-012014

>Applicant: Rare Feline Breeding Center, Center Hill, FL.

The applicant request a permit to sell in foreign commerce and export two males and two females tigers (Panthera tigris) to Bifengzia Ecological Zoo, Yaan City, China for the purpose of enhancement of the survival of the species through propagation and conservation education.

PRT-024236

Applicant: Richard A.Edlund, Muskegon, MI.

The applicant requests a permit to import the sport-hunted trophy of one male bontebok (Damaliscus pygargus dorcas) culled from a captive herd maintained under the management program of the Republic of South Africa, for the purpose of enhancement of the survival of the species.

PRT-023045

Applicant: Ann Cornell, Joplin, M0.

The applicant requests a permit to import the sport-hunted trophy of one male bontebok (Damaliscus pygargus dorcas) culled from a captive herd maintained under the management program of the Republic of South Africa, for the purpose of enhancement of the survival of the species.

PRT-023047

Applicant: Harry M. Cornell, Jr. Joplin, M0.

The applicant requests a permit to import the sport-hunted trophy of one male bontebok (Damaliscus pygargus dorcas) culled from a captive herd maintained under the management program of the Republic of South Africa, for the purpose of enhancement of the survival of the species.

PRT-022663

Applicant: Columbus Zoo and Aquarium, Powell, OH.

The applicant requests a permit to import two male and one female captive-born African cheetahs (Acinonyx jubatus) from the Toronto Zoo, Ontario, Canada for the purpose of enhancement of the species through captive propagation.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: March 17, 2000.
Kristen Nelson,
Chief, Branch of Permits, Office of Management Authority.

[FR Doc. 00-7173 Filed 3-22-00; 8:45 am]

BILLING CODE 4310-55-P